DEPARTMENT OF TRANSPORTATION

Federal Motor Carrier Safety Administration

Office of Research and Analysis Forum on FMCSA Safety and Security Accomplishments

AGENCY: Federal Motor Carrier Safety Administration (FMCSA), DOT.

ACTION: Notice of meeting/forum.

SUMMARY: The FMCSA, Office of Research and Analysis (R&A), will host a forum on FMCSA Safety and Security Accomplishments, in conjunction with the Transportation Research Board's (TRB) 85th Annual Meeting. The forum is designed to provide insight on safety and security research, technology and analysis accomplishments that support FMCSA's mission to reduce the number and severity of commercial motor vehicle (CMV) crashes and fatalities and enhance efficiency of CMV operations. The forum topics will include a conference report on the 2005 International Conference on Fatigue Management in Transportation Operations; updated FMCSA activities in the hazardous materials area; and accomplishments to date on medical qualifications, driver health and medical reporting initiatives. Panelists will also cover the latest results of the Large Truck Crash Causation Study; a report on public input on FMCSA's notice requesting information on its Wireless Inspection Program; results of the field operational test on Lane Departure Warning Systems and Deployment of On-Board Safety Systems; and what progress has been made on improving Data Quality. A portion of the forum will be set aside for attendees to dialogue with FMCSA subject-matter experts through an open question and answer session.

DATES: The R&A Forum will be held on Sunday, January 22, 2006, from 8:30 a.m. to 12:30 p.m. Registration will begin at 8 a.m.

ADDRESSES: The R&A Forum will take place at the Marriott Wardman Park Hotel, Salon III, 2660 Woodley Road, NW., Washington, DC 20008.

Registration: This forum is listed as a session in the TRB 85th Annual Meeting Program and all registrants are welcome to attend. TRB registration is not required to attend the forum and it is open to the public at no cost. To attend the forum only, send an email to RApartnerships@fmcsa.dot.gov.

Information about registration for the TRB Annual Meeting will be available at http://www.trb.org.

FOR FURTHER INFORMATION CONTACT: Mr. Albert Alvarez, Office of Research and Analysis (MC-RRR), Federal Motor Carrier Safety Administration, 400 Virginia Avenue, SW., Washington, DC 20024. Telephone (202) 385-2387 or e-mail albert.alvarez@fmcsa.dot.gov. Office hours are from 8 a.m. to 4:30 p.m., E.S.T., Monday through Friday, except Federal holidays.

SUPPLEMENTARY INFORMATION: Forum attendees will receive an information packet on current R&A programs. While the forum is open to the public, it will be limited to space available. Individuals requiring special needs/accommodations (sign, reader, etc.), please call Joanice Cole at (202) 334-2287, or e-mail jcole@nas.edu.

Issued on: January 10, 2006.
Annette M. Sandberg,
Administrator.

[FR Doc. E6-344 Filed 1-12-06; 8:45 am]

BILLING CODE 4910-EX-P